DEPARTMENT OF TRANSPORTATION

Surface Transportation Board

[Docket No. FD 35822]

Oakland Global Rail Enterprise, LLC—Operation Exemption—Rail Line of Union Pacific Railroad Company and BNSF Railway Company

Oakland Global Rail Enterprise, LLC (OGRE), a noncarrier, has filed a verified notice of exemption under 49 CFR 1150.31 to operate over approximately 1.8 miles of track consisting of: (1) Approximately 3,800 feet of track owned by Union Pacific Railroad Company (UP) that runs between 2001 Engineers Road and the end of the UP interchange track; and (2) approximately 5,622 feet of track owned by BNSF Railway Company that runs between a point at or near the Bay Bridge Freeway and the Gary Steel facilities on 20th Street in Oakland, Alameda County, Cal.

According to OGRE, the transaction does not involve any provision or agreement that would limit future interchange of traffic with any third-party carrier. OGRE states that it will hold itself out to provide all common carrier rail freight service over the tracks.

OGRE intends to consummate the proposed transaction on or before January 1, 2015, which is after the effective date of this exemption (30 days after the exemption was filed).

OGRE certifies that their projected annual revenues as a result of this transaction will not result in its becoming a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than May 23, 2014 (at least 7 days before the exemption becomes effective).

An original and 10 copies of all pleadings, referring to Docket No. FD 35822, must be filed with the Surface Transportation Board, 395 E Street SW., Washington, DC 20423-0001. In addition, a copy of each pleading must be served on Edward D. Greenberg, GKG Law, P.C., Canal Square, 1054 Thirty-First Street NW., Washington, DC 20007.

Board decisions and notices are available on our Web site at “www.stb.dot.gov.”

Decided: May 12, 2014.
By the Board, Rachel D. Campbell, Director, Office of Proceedings.
Derrick A. Gardner,
Clearance Clerk.

[FR Doc. 2014-11215 Filed 5-15-14; 8:45 am]

BILLING CODE 4915-01-P